DEPARTMENT OF HOMELAND SECURITY

Federal Emergency Management Agency

[Docket ID FEMA-2020-0002; Internal Agency Docket No. FEMA-B-2010]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Pima | City of Tucson (19-09-1100P). | The Honorable Jonathan Rothschild, Mayor, City of Tucson, 255 West Alameda Street, Tucson, AZ 85701. | Planning and Development Services, Public Works Building, 201 North Stone Avenue, Tucson, AZ 85701. | https://msc.fema.gov/portal/advanceSearch. | Apr. 21, 2020 | 040076
Pima | Unincorporated Areas of Pima County (19-09-1762P). | The Honorable Richard Elías, Chairman, Board of Supervisors, Pima County, 130 West Congress Street, 11th Floor, Tucson, AZ 85701. | Pima County Flood Control District, 201 North Stone Avenue, 9th Floor, Tucson, AZ 85701. | https://msc.fema.gov/portal/advanceSearch. | Apr. 20, 2020 | 040073
Pima | Unincorporated Areas of Pima County (19-09-2213P). | The Honorable Richard Elías, Chairman, Board of Supervisors, Pima County, 130 West Congress Street, 11th Floor, Tucson, AZ 85701. | Pima County Flood Control District, 201 North Stone Avenue, 9th Floor, Tucson, AZ 85701. | https://msc.fema.gov/portal/advanceSearch. | Apr. 24, 2020 | 040073
California:
San Luis Obispo | City of Morro Bay (18-09-0960P). | The Honorable John Headding, Mayor, City of Morro Bay, 595 Harbor Street, Morro Bay, CA 93442. | City Hall, 595 Harbor Street, Morro Bay, CA 93442. | https://msc.fema.gov/portal/advanceSearch. | Apr. 21, 2020 | 060307
Shasta | City of Redding (19-09-0032P). | The Honorable Julie Winter, Mayor, City of Redding, 777 Cypress Avenue, 3rd Floor, Redding, CA 96001. | Permit Center Division, 777 Cypress Avenue, 1st Floor, Redding, CA 96001. | https://msc.fema.gov/portal/advanceSearch. | Apr. 9, 2020 | 060360
Shasta | Unincorporated Areas of Shasta County (19-09-0032P). | The Honorable Leonard Moty, Chairman, Board of Supervisors, Shasta County, 1450 Court Street, Suite 308B, Redding, CA 96001. | Shasta County, Public Works Department, 1855 Placer Street, Redding, CA 96001. | https://msc.fema.gov/portal/advanceSearch. | Apr. 9, 2020 | 060358
Florida: St. Johns | Unincorporated Areas of St. Johns County (19-04-5378P). | The Honorable Jeb S. Smith, Chair, St. Johns County Board of Commissioners, 500 San Sebastian View, St. Augustine, FL 32084. | St. Johns County Permit Center, 4040 Lewis Speedway, St. Augustine, FL 32084. | https://msc.fema.gov/portal/advanceSearch. | May 5, 2020 | 125147
Illinois:
Will | Unincorporated Areas of Will County (19-05-4930P). | The Honorable Lawrence M. Walsh, County Executive, Will County, Will County Office Building, 302 North Chicago Street, Joliet, IL 60432. | Land Use Department, 58 East Clinton Street, Suite 100, Joliet, IL 60432. | https://msc.fema.gov/portal/advanceSearch. | Apr. 24, 2020 | 170695
Will | Village of Mokena (19-05-4930P). | The Honorable Frank Fleischer, Village President, Village of Mokena, 11004 Carpenter Street, Mokena, IL 60448. | Village Hall, 11004 Carpenter Street, Mokena, IL 60448. | https://msc.fema.gov/portal/advanceSearch. | Apr. 24, 2020 | 170705
Indiana:
Hancock | Unincorporated Areas of Hancock County (19-05-3686P). | Mr. John Jessup, Commissioner, Hancock County, 111 South American Legion Place, Suite 219 Greenfield, IN 46140. | Hancock County Government Building, 111 South American Legion Place, Greenfield, IN 46140. | https://msc.fema.gov/portal/advanceSearch. | Apr. 24, 2020 | 180419
Marion | City of Lawrence (19-05-3686P). | The Honorable Steve Collier Mayor, City of Lawrence, 9001 East 59th Street, Lawrence, IN 46216. | City Hall, 9001 East 59th Street, Lawrence, IN 46216. | https://msc.fema.gov/portal/advanceSearch. | Apr. 24, 2020 | 180160
Kansas: Leavenworth | Unincorporated Areas of Leavenworth County (19-07-1449P). | The Honorable Doug Smith, Chairman, Board of Leavenworth County Commissioners, County Courthouse, 300 Walnut Street, Suite 225, Leavenworth, KS 66048. | City Hall, 100 North 5th Street, Leavenworth, KS 66048. | https://msc.fema.gov/portal/advanceSearch. | May 8, 2020 | 200186
Nevada: Washoe | City of Reno (19-09-0890P). | The Honorable Hillary Schieve, Mayor, City of Reno, P.O. Box 1900, Reno, NV 89505. | City Hall, 1 East 1st Street, Reno, NV 89501. | https://msc.fema.gov/portal/advanceSearch. | Apr. 15, 2020 | 320020
New York: Onondaga | Town of Camillus (19-02-0665P). | Ms. Mary Ann Coogan Supervisor, Town of Camillus, 4600 West Genesee Street, Syracuse, NY 13219. | Town Hall, 4600 West Genesee Street, Syracuse, NY 13219. | https://msc.fema.gov/portal/advanceSearch. | Jun. 19, 2020 | 360570
Texas:
Tarrant | City of Fort Worth (19-06-1628P). | The Honorable Betsy Price, Mayor, City of Fort Worth, 200 Texas Street, Fort Worth, TX 76102. | Department of Transportation and Public Works, 200 Texas Street, Fort Worth, TX 76102. | https://msc.fema.gov/portal/advanceSearch. | May 1, 2020 | 480596
Tarrant | City of Fort Worth (19-06-4087P). | The Honorable Betsy Price, Mayor, City of Fort Worth, 200 Texas Street, Fort Worth, TX 76102. | Department of Transportation and Public Works, 200 Texas Street, Fort Worth, TX 76102. | https://msc.fema.gov/portal/advanceSearch. | Apr. 17, 2020 | 480596
Washington: King | City of Auburn (19-10-0993P). | The Honorable Nancy Backus, Mayor, City of Auburn, 25 West Main Street, Auburn, WA 98001. | City Hall, 25 West Main Street, Auburn, WA 98001. | https://msc.fema.gov/portal/advanceSearch. | Apr. 17, 2020 | 530073

[FR Doc. 2020-02460 Filed 2-6-20; 8:45 am]

BILLING CODE 9110-12-P